DEPARTMENT OF COMMERCE

National Oceanic and Atmospheric Administration

Draft Supplemental Programmatic Environmental Assessment for Fisheries Research Conducted and Funded by the Alaska Fisheries Science Center

AGENCY: National Marine Fisheries Service (NMFS), National Oceanic and Atmospheric Administration (NOAA), US Department of Commerce.

ACTION: Notice of availability of a Draft Supplemental Programmatic Environmental Assessment; request for comments.

SUMMARY: NMFS announces the availability of the “Draft Supplemental Programmatic Environmental Assessment (SPEA) for Fisheries Research Conducted and Funded by the Alaska Fisheries Science Center.” Publication of this notice begins the official public comment period for this SPEA. The purpose of this Draft SPEA is to evaluate potential direct, indirect, and cumulative effects of changes in research that were not analyzed in the 2019 Alaska Fisheries Science Center (AFSC) Programmatic Environmental Assessment (PEA), or new research activities in the North Pacific Ocean and marine waters off of Alaska. Where necessary, updates to certain information on species, stock status or other components of the affected environment that may result in different conclusions from the 2019 PEA are presented in this analysis.

DATES: Comments and information must be received no later than June 18, 2024.

ADDRESSES: Comments on the Draft SPEA should be addressed to Rebecca Reuter, Environmental Compliance Coordinator, NOAA/NMFS/AFSC, 7600 Sand Point Way NE, Seattle, WA 98115.

The mailbox address for providing email comments is: nmfs.afsc.spea@noaa.gov NMFS is not responsible for email comments sent to addresses other than the one provided here. Comments sent via email, including all attachments, must not exceed a 10-megabyte file size.

A copy of the Draft SPEA may be obtained by writing to the address specified above, telephoning the contact listed below (see FOR FURTHER INFORMATION CONTACT), or visiting the internet at: https://www.fisheries.noaa.gov/action/supplemental-programmatic-environmental-assessment-fisheries-research-conducted-and-funded. Documents cited in this notice may also be viewed, by appointment, during regular business hours at the aforementioned address.

FOR FURTHER INFORMATION CONTACT: Rebecca Reuter, email: rebecca.reuter@noaa.gov, phone: (206) 526-4234.

SUPPLEMENTARY INFORMATION: The AFSC is the research arm of NMFS in the Alaska Region. The purpose of AFSC fisheries research is to produce scientific information necessary for the management and conservation of living marine resources in the North Pacific Ocean and marine waters off of Alaska. AFSC's research is needed to promote both the long-term sustainability of the resource and the recovery of certain species, while generating social and economic opportunities and benefits from their use. The AFSC provides scientific data and technical advice to a variety of management organizations and stakeholder groups, including the NMFS Alaska Regional Office, North Pacific Fishery Management Council (NPFMC), State of Alaska, Alaska coastal subsistence communities, and U.S. representatives participating in international fishery and marine mammal negotiations, as well as the fishing industry, environmental non-governmental organizations and other constituents.

NMFS has prepared the Draft SPEA under the National Environmental Policy Act (NEPA) to evaluate several alternatives for conducting and funding fisheries and ecosystem research activities as the primary Federal action. Additionally, in the Draft SPEA, NMFS evaluates a related action—also called a “connected action” under 40 CFR 1508.25 of the Council on Environmental Quality's regulations for implementing the procedural provisions of NEPA (42 U.S.C. 4321 et seq.)—which is the proposed promulgation of regulations and authorization of the take of marine mammal incidental to the fisheries research under the Marine Mammal Protection Act (MMPA). Additionally, because the proposed research activities occur in areas inhabited by species of marine mammals, birds, sea turtles and fish listed under the Endangered Species Act (ESA) as threatened or endangered, this Draft SPEA evaluates activities that could result in unintentional takes of ESA-listed marine species.

The following two alternatives are currently evaluated in the Draft SPEA:

• Alternative 1—Continue current fisheries and ecosystem research (Status Quo/no action) as described in the 2019 AFSC PEA.

• Alternative 2—Conduct current research with some modifications as well as new research activities that are planned for the future (i.e., 2024—2029). New future research proposed under Alternative 2 was not previously analyzed in the 2019 PEA.

The alternatives include a program of fisheries and ecosystem research projects conducted or funded by the AFSC as the primary Federal action. Because this primary action is connected to a secondary Federal action, to consider authorizing incidental take of marine mammals under the MMPA, NMFS must identify as part of this evaluation “(t)he means of effecting the least practicable adverse impact on the species or stock and its habitat.” (section 101(a)(5)(A) of the MMPA [16 U.S.C. 1361 et seq.]) NMFS must therefore identify and evaluate a reasonable range of mitigation measures to minimize impacts to protected species that occur in AFSC research areas. These mitigation measures are considered as part of the identified alternatives in order to evaluate their effectiveness to minimize potential adverse environmental impacts. The two action alternatives also include mitigation measures intended to minimize potentially adverse interaction with other protected species that occur within the action area. Protected species include all marine mammals, which are covered under the MMPA, all species listed under the ESA, and bird species protected under the Migratory Bird Treaty Act.

Potential direct and indirect effects on the environment are evaluated under each alternative in the Draft SPEA. The environmental effects on the following resources are considered: physical environment, special resource areas, fish, marine mammals, birds, sea turtles, invertebrates, and the social and economic environment. Cumulative effects of external actions and the contribution of fisheries research activities to the overall cumulative impact on the aforementioned resources is also evaluated in the Draft SPEA for the geographic regions in which AFSC surveys are conducted.

NMFS requests comments on the Draft SPEA for Fisheries Research Conducted and Funded by the National Marine Fisheries Service, Alaska Fisheries Science Center. Please include, with your comments, any supporting data or literature citations that may be informative in substantiating your comment.

Dated: March 29, 2024.
Robert Foy,
Science and Research Director, Alaska Fisheries Science Center, National Marine Fisheries Service.

[FR Doc. 2024-07096 Filed 4-18-24; 8:45 am]

BILLING CODE 3510-22-P